DEPARTMENT OF ENERGY

Federal Energy Regulatory Commission

[Docket No. RD16-9-000]

Commission Information Collection Activities (FERC-725v); Comment Request; Revision

AGENCY: Federal Energy Regulatory Commission.

ACTION: Notice of revised information collection and request for comments.

SUMMARY: The Federal Energy Regulatory Commission (Commission or FERC) on December 1, 2016 issued a 60-day Notice in the Federal Register requesting public comments on FERC-725V (Mandatory Reliability Standards: COM Reliability Standards) which will be submitted to the Office of Management and Budget (OMB) for a review of the information collection requirements. The Commission received no comments on the FERC-725V and is making this notation in its submittal to OMB.

In compliance with the requirements of the Paperwork Reduction Act of 1995, the Commission is submitting the FERC-725V to the Office of Management and Budget (OMB) for review of the information collection requirements. Any interested person may file comments directly with OMB and should address a copy of those comments to the Commission as explained below.

DATES: Comments on the FERC-725V are due by June 30, 2017.

ADDRESSES: Comments filed with OMB, identified by the OMB Control No. 1902-0277 (FERC-725V), should be sent via email to the Office of Information and Regulatory Affairs at: oira_submission@omb.gov, Attention: Federal Energy Regulatory Commission Desk Officer.

A copy of the comments should also be sent to the Commission, in Docket No. RD16-9-000, by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663, and fax at (202) 273-0873.

SUPPLEMENTARY INFORMATION: Title: FERC-725V, Mandatory Reliability Standards: COM Reliability Standards.

OMB Control No.: 1902-0277.

Type of Request: Extension of the FERC-725V information collection requirements.

Abstract: On August 15, 2016, the North American Electric Reliability Corporation (NERC) filed a petition for Commission approval, pursuant to section 215(d)(1) of the Federal Power Act (“FPA”) ¹ and Section 39.5 ² of the Federal Energy Regulatory Commission's regulations, for approval of proposed Reliability Standard COM-001-3 (Communications), the associated Implementation Plan, retirement of currently-effective Reliability Standard COM-001-2.1, and Violation Risk Factors (“VRFs”) and Violation Severity Levels (“VSLs”) associated with new Requirements R12 and R13 proposed in Reliability Standard COM-001-3. Proposed Reliability Standard COM-001-3 reflects revisions developed under Project 2015-07 Internal Communications Capabilities, in compliance with the Commission's directive in Order No. 888 that NERC “develop modifications to COM-001-2, or develop a new standard, to address [the Commission's] concerns regarding ensuring the adequacy of internal communications capability whenever internal communications could directly affect the reliability operations of the Bulk-Power System.

¹ 16 U.S.C. 824o (2012).

² 18 CFR 39.5 (2011).

On October 28, 2016, NERC's uncontested petition was approved pursuant to the relevant authority delegated to the Director, Office of Electric Reliability under 18 CFR 375.303(2016), effective as of July 1, 2016.³

³ https://elibrary-backup.ferc.gov/IDMWS/common/opennat.asp?fileID=14386228

Type of Respondents: Public utilities.

Estimate of Annual Burden ⁴: With respect to the proposed revisions to Reliability Standard COM-001-3 and the retirement of the currently-effective Reliability Standard COM-001-2.1, the Commission estimates that there will be no material change in industry information collection obligations because the Requirements R12 and R13 (which are additions to COM-001-3) do not impact the paperwork burden of impacted registered entities.

⁴ Burden is defined as the total time, effort, or financial resources expended by persons to generate, maintain, retain, or disclose or provide information to or for a Federal agency. For further explanation of what is included in the information collection burden, refer to 5 Code of Federal Regulations 1320.3.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 24, 2017 .
Kimberly D. Bose,
Secretary.

[FR Doc. 2017-11198 Filed 5-30-17; 8:45 am]

BILLING CODE 6717-01-P